DEPARTMENT OF THE INTERIOR

Minerals Management Service

[Docket No. MMS-2008-MRM-0021]

30 CFR Part 210

RIN 1010-AD20

Reporting Amendments

AGENCY: Minerals Management Service (MMS), Interior.

ACTION: Correcting amendment.

SUMMARY: The MMS published a final rule in the Federal Register on Wednesday, March 26, 2008 (73 FR 15885), announcing amendments to existing regulations for reporting production and royalties on oil, gas, coal and other solid minerals, and geothermal resources produced from Federal and Indian leases. This docutment corrects the final rule, which contained a clerical error in the tables identifying OMB-approved information collections and their corresponding forms.

DATES: Effective Date: Effective on October 8, 2008.

FOR FURTHER INFORMATION CONTACT: Hyla Hurst, Regulatory Specialist, Minerals Management Service, Minerals Revenue Management, P.O. Box 25165, MS 302B2, Denver, Colorado 80225; telephone (303) 231-3495; or e-mail Hyla.Hurst@mms.gov.

SUPPLEMENTARY INFORMATION: A final rule was published in the Federal Register on March 26, 2008 (73 FR 15885) containing a clerical error in the preamble and the regulatory text in the tables listing OMB-approved information collections. The forms approved under OMB Control Number 1010-0139 were incorrectly identified on page 15889 in the preamble and page 15893 in the regulatory text. Both tables contain the same error. Form MMS-4054 (Parts A, B, and C) and Form MMS-4058 are correctly identified as shown below in the table at § 210.10.

List of Subjects in 30 CFR Part 210

Coal, Solid minerals, Continental Shelf, Electronic funds transfers, Geothermal energy, Government contracts, Indian lands, Mineral royalties, Natural gas, Penalties, Petroleum, Oil and gas, Public lands—mineral resources, Reporting and recordkeeping requirements.

Accordingly, 30 CFR Part 210 is corrected by making the following amendments:

PART 210—FORMS AND REPORTS

1. The authority citation for part 210 continues to read as follows:

Authority: 5 U.S.C. 301 et. seq. ; 25 U.S.C. 396, 2107; 30 U.S.C. 189, 190, 359, 1023, 1751(a); 31 U.S.C. 3716, 9701; 43 U.S.C. 1334, 1801 et. seq. ; and 44 U.S.C. 3506(a).

2. In § 210.10, the table is amended by revising the entry for OMB number 1010-0139 to read as follows:

§ 210.10 What are the OMB-approved information collections?

* * * * *

OMB Control No. and short title | Form or information collected
* * * * * * *
1010-0139, 30 CFR Parts 210 and 216, Production Accounting | Form MMS-4054 (Parts A, B, and C), Oil and Gas Operations Report.
| Form MMS-4058, Production Allocation Schedule Report.
* * * * * * *

Dated: September 30, 2008.
C. Stephen Allred,
Assistant Secretary for Land and Minerals Management.

[FR Doc. E8-23788 Filed 10-7-08; 8:45 am]

BILLING CODE 4310-MR-P